ENVIRONMENTAL PROTECTION AGENCY

[ER-FRL-6680-5]

Environmental Impacts Statements; Notice of Availability

Responsible Agency: Office of Federal Activities, General Information (202) 564-7167 or http://www.epa.gov/compliance/nepa/.

Weekly receipt of Environmental Impact Statements

Filed 10/16/2006 Through 10/20/2006

Pursuant to 40 CFR 1506.9.

EIS No. 20060435, Final EIS, COE, AZ, Rio Salado Oeste Project, Ecosystem Restoration along the Salt River, City of Phoenix, Maricopa County, AZ, Wait Period Ends: 11/27/2006, Contact: Scott K. Estergard 602-640-2003.

EIS No. 20060436, Draft Supplement, FHW, IN, US-31 Kokomo Corridor Project, Updated Information on Alternative J, Transportation Improvement between IN-26 and U.S. 35 Northern Junction, City of Kokomo and Center Township, Howard and Tipton Counties, IN, Comment Period Ends: 12/11/2006, Contact: Larry Heil 317-226-7480.

EIS No. 20060437, Draft EIS, NRS, WV, Dunloup Creek Watershed Plan, Voluntary Floodplain Buyout, Implementation, West Virginia Third Congressional District, Fayette and Raleigh Counties, WV, Comment Period Ends: 12/11/2006, Contact: Ronald Hilliard 304-284-7540.

EIS No. 20060438, Draft EIS, VAD/DON, CA, Fort Rosecrans National Cemetery Annex, Construction and Operation, Located at Marine Corps Air Station (MCAS) Miramar, Point Loma, San Diego County, CA, Comment Period Ends: 12/11/2006, Contact: Hiphil Clemente 619-532-3781.

EIS No. 20060439, Final Supplement, AFS, CA, Rock Creek Recreational Trails Project, Updated Information on Habitat Status and Population Trend for the Pacific Deer Herd, Implementation, Eldorado National Forest, Eldorado County, CA, Wait Period Ends: 11/27/2006, Contact: Laura Hierholzer 530-642-5187.

EIS No. 20060440, Draft EIS, GSA, VA, Federal Bureau of Investigation (FBI) Central Records Complex, Site Selection and Construction, Winchester, Frederick County, VA, Comment Period Ends: 12/11/2006, Contact: Katrina Scarpato 215-446-4651.

EIS No. 20060441, Final EIS, CGD, MA, Northeast Gateway Deepwater Port License Application to Import Liquefied Natural Gas (LNG) (USCG-2005-22219), Massachusetts Bay, City of Gloucester, MA, Wait Period Ends: 11/27/2006, Contact: Roddy Bachman 202-372-1451.

EIS No. 20060442, Final EIS, BLM, ID, Coeur d'Alene Resource Management Plan, Implementation, Benewah, Bonner, Boundary, Kootenai and Shoshone Counties, ID, Wait Period Ends: 11/27/2006, Contact: Scott Pavey 208-769-5059.

Amended Notices

EIS No. 20060348, Draft EIS, NPS, MN, Disposition of Bureau of Mines Property, Twin Cities Research Center Main Campus, Implementation, Hennepin County, MN, Comment Period Ends: 11/24/2006, Contact: Kim M. Berns 651-290-3030-x244. Revision of FR Notice Published 08/18/2006: Extend Comment Period from 10/16/2006 to 11/24/2006.

EIS No. 20060360, Draft EIS, AFS, WA, Gifford-Pinchot National Forest and Columbia River Gorge National Scenic Area (Washington Portion) Site-Specific Invasive Plant Treatment Project, Implementation, Skamania, Cowlitz, Lewis, Clark, Klickitat Counties, WA, Comment Period Ends: 11/22/2006, Contact: Carol A. Chandler 541-360-5100. Revision of FR Notice Published 09/01/2006: Extending Comment Period from 10/16/2006 to 11/22/2006.

EIS No. 20060376, Draft EIS, FHW, AK, Knik Arm Crossing Project, To Provide Improved Access between the Municipality of Anchorage and Matanuska-Susitna Borough, AK, Comment Period Ends: 11/17/2006, Contact: Ms. Edrie Vinson 907-586-7464. Revision of FR Notice Published 09/15/2006: Extend Comment from 10/30/2006 to 11/17/2006.

Dated: October 24, 2006.
Robert W. Hargrove,
Director, NEPA Compliance Division, Office of Federal Activities.

[FR Doc. E6-18018 Filed 10-26-06; 8:45 am]

BILLING CODE 6560-50-P